DEPARTMENT OF DEFENSE

Office of the Secretary

Defense Innovation Board; Notice of Federal Advisory Committee Meeting

AGENCY: Under Secretary of Defense for Research & Engineering, Department of Defense (DoD).

ACTION: Notice of Federal Advisory Committee meeting.

SUMMARY: The DoD is publishing this notice to announce that the following Federal Advisory Committee meeting of the Defense Innovation Board (“the Board”) will take place.

DATES: Open to the public, Tuesday, June 23, 2020 from 2:00 p.m. to 4:00 p.m. Eastern Standard Time (EST).

FOR FURTHER INFORMATION CONTACT: Ms. Colleen Laughlin, (571) 372-0933 (Voice), colleen.r.laughlin.civ@mail.mil or osd.innovation@mail.mil(Email). Mailing address is Defense Innovation Board, 3030 Defense Pentagon, Room 5E572, Washington, DC 20301-3030. Website: http://innovation.defense.gov. The most up-to-date changes to the meeting agenda can be found on the website.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: To obtain, review, and evaluate information related to the Board's mission in advising the Secretary of Defense and the Deputy Secretary of Defense independent advice and recommendations on innovative means to address future challenges in terms of integrated change to organizational structure and processes, business and functional concepts, and technology applications. The Board focuses on (a) technology and capabilities, (b) practices and operations, (c) people and culture, and (d) other research and analysis of topics raised by the Secretary of Defense, Deputy Secretary of Defense, or the Under Secretary of Defense for Research and Engineering.

Agenda: The meeting will begin on June 23, 2020 at 2:00 p.m. EST with opening remarks by Ms. Colleen Laughlin, the Designated Federal Officer (DFO), and Dr. Eric Schmidt, Board Chair. The Science and Technology subcommittee will discuss their work, to include deliberation on a recommendation concerning testing, evaluation, verification, and validation (TEVV) of autonomous systems. The Workforce Behavior and Culture subcommittee will discuss their work on defining innovation terms and concepts for the Department, as well as their perspective on the recent Department-wide response to the COVID-19 pandemic. Additionally, Ms. Colleen Laughlin, on behalf of DoD, will brief the DIB on DoD's latest implementation activities related to DIB recommendations. Ms. Laughlin will then read electronically submitted comments from the public to the Board. The Board will receive an update from the Department on the implementation status of its recommendations. The meeting will adjourn at 4:00 p.m. EST.

Meeting Accessibility: Pursuant to Federal statutes and regulations (the FACA, the Sunshine Act, and 41 CFR 102-3.140 through 102-3.165) and the availability of space, the meeting is open to the public from 2:00 p.m. to 4:00 p.m. EST. Members of the public wishing to attend the meeting or wanting to receive a link to the live stream webcast should register on the Board website, http://innovation.defense.gov/meetings, no later than June 18, 2020. Members of the media should RSVP to the Office of the Assistant to the Secretary of Defense (Public Affairs), at osd.pentagon.pa.list.dop-atl@mail.mil.

Special Accommodations: Individuals requiring special accommodations to access the public meeting should contact the DFO, see the FOR FURTHER INFORMATION CONTACT section for contact information, no later than June 18, 2020, so that appropriate arrangements can be made.

Written Statements: Written comments may be submitted to the DFO via email to mailbox address: osd.innovation@mail.mil in either Adobe Acrobat or Microsoft Word format. The DFO will compile all written submissions and provide them to Board members for consideration. Please note that because the Board operates under the provisions of the FACA, all submitted comments will be treated as public documents and will be made available for public inspection, including, but not limited to, being posted on the Board's website.

Dated: June 4, 2020.
Aaron T. Siegel,
Alternate OSD Federal Register Liaison Officer, Department of Defense.

[FR Doc. 2020-12472 Filed 6-8-20; 8:45 am]

BILLING CODE 5001-06-P